DEPARTMENT OF ENERGY

Federal Energy Regulatory Commission

[Docket No. AD06-6-000]

Joint Meeting of the Nuclear Regulatory Commission and the Federal Energy Regulatory Commission; Notice of Joint Meeting of the Nuclear Regulatory Commission and the Federal Energy Regulatory Commission

March 2, 2010.

The Federal Energy Regulatory Commission (FERC) and the Nuclear Regulatory Commission (NRC) will hold a joint meeting on Tuesday, March 16, 2010 at the headquarters of the NRC, One White Flint North, 11555 Rockville Pike, Rockville, Maryland 20852. The meeting is expected to begin at 1:30 p.m. and conclude at 3:30 p.m. Eastern Standard Time.

The NRC and FERC signed a Memorandum of Agreement (MOA) in September 2010 to facilitate interactions between the two agencies on matters of mutual interest pertaining to the nation's bulk power system reliability. The March 16 meeting will continue the ongoing discussion to address grid reliability and the roles of the respective agencies in addressing this issue.

A free Webcast of this event will be made available through the NRC Web site, at http://www.nrc.gov. In addition, the event will be transcribed and the transcription will be made available through the NRC Web site approximately three business days after the meeting.

All interested persons are invited. Pre-registration is not required and there is no fee to attend this joint meeting. Questions about the meeting should be directed to Sarah McKinley at Sarah.McKinley@ferc.gov or by phone at 202-502-8004.

Kimberly D. Bose,
Secretary.

[FR Doc. 2010-5005 Filed 3-9-10; 8:45 am]

BILLING CODE 6717-01-P